DEPARTMENT OF EDUCATION

34 CFR Chapter III

[Catalog of Federal Domestic Assistance (CFDA) Number: 84.328C.]

Proposed Waiver and Extension of the Project Period for the Community Parent Resource Centers

AGENCY: Office of Special Education Programs (OSEP), Office of Special Education and Rehabilitative Services (OSERS), Department of Education.

ACTION: Proposed waiver and extension of the project period.

SUMMARY: The Secretary proposes to waive the requirements in the Education Department General Administrative Regulations that generally prohibit project periods exceeding five years and project period extensions involving the obligation of additional Federal funds. We take this action because this proposed waiver and extension of the project period would enable nine currently funded Community Parent Resource Centers (CPRCs) to receive funding from October 1, 2015, through September 30, 2016.

DATES: We must receive your comments on or before April 8, 2015.

ADDRESSES: Address all comments about this proposed waiver and extension of the project period to Carmen Sanchez, U.S. Department of Education, 400 Maryland Avenue SW., Room 4057, Potomac Center Plaza (PCP), Washington, DC 20202-2600.

If you prefer to send your comments by email, use the following address: carmen.sanchez@ed.gov. You must include the phrase “Proposed waiver and extension of the project period” in the subject line of your message.

FOR FURTHER INFORMATION CONTACT: Carmen Sanchez. Telephone: (202) 245-6595, or by email at: carmen.sanchez@ed.gov.

If you use a telecommunications device for the deaf or a text telephone, call the Federal Relay Service, toll free, at 1-800-877-8339.

SUPPLEMENTARY INFORMATION:

Invitation to Comment: We invite you to submit comments regarding this proposed waiver and extension. During and after the comment period, you may inspect all public comments about this proposed waiver and extension of the project period in room 4057, PCP, 550 12th Street SW., Washington, DC, between the hours of 8:30 a.m. and 4:00 p.m., Washington, DC time, Monday through Friday of each week, except Federal holidays.

Assistance to Individuals with Disabilities in Reviewing the Rulemaking Record: On request, we will provide an appropriate accommodation or auxiliary aid to an individual with a disability who needs assistance to review the comments or other documents in the public rulemaking record for this notice. If you want to schedule an appointment for this type of aid, please contact the person listed under FOR FURTHER INFORMATION CONTACT.

Background

On May 3, 2010, the Department of Education (Department) published in the Federal Register (75 FR 23254) a notice inviting applications (2010 NIA) for new awards for fiscal year (FY) 2010 for up to 10 CPRCs. The CPRCs were funded under the Parent Training and Information (PTI) Program, authorized under sections 672 and 673 of the Individuals with Disabilities Education Act (IDEA).

The purpose of CPRCs is to provide underserved parents of children with disabilities in targeted communities—including low-income parents, parents of limited English proficient children, and parents with disabilities—with the training and information they need to enable them to participate cooperatively and effectively in helping their children with disabilities to—

(1) Meet developmental and functional goals, as well as challenging academic achievement standards that have been established for all children; and

(2) Be prepared to lead the most productive, independent adult lives possible.

The CPRCs provide training and information to parents of infants, toddlers, and children, from birth through age 26, with the full range of disabilities described in section 602(3) of IDEA by: (a) Responding to individual requests for information and support from parents of children with disabilities, including parents of children who may be inappropriately identified in their targeted communities; (b) providing training to parents of children with disabilities; (c) supporting parents of children with disabilities, as needed, such as helping them to prepare for individualized education program or individualized family service plan meetings; and (d) maintaining a Web site and social media presence, as appropriate, to inform parents in their targeted communities of appropriate resources.

Based on the selection criteria published in the 2010 NIA, the Department made awards for a period of 60 months to 10 organizations, nine of which have received FY 2014 continuation funding: Fiesta Educativa in California; Parent to Parent of Miami, Inc. in Florida; Agenda for Children/Pyramid Parent Training in Louisiana; Urban PRIDE in Massachusetts; SPEAKS Education, Inc. in Michigan; Education for Parents of Indian Children with Special Needs (EPICS) in New Mexico; Palau Parents Empowered in Palau; Philadelphia HUNE, Inc. in Pennsylvania; and Disabilities Information Coalition in Texas.

The 2010 CPRC cohort's current project period is scheduled to end on September 30, 2015. We do not believe that it would be in the public interest to run a competition for new CPRCs this year because the Department is in the process of changing the competition schedule for the PTI Program to make better use of Department resources. Under the proposed CPRC competition schedule, instead of holding three competitions over five years, each for 10 CPRCs, we would hold one competition for 30 CPRCs for a project period of up to five years. We propose to fund 30 CPRCs in FY 2016. We also have concluded that it would be contrary to the public interest to provide services to fewer underserved families in order to change the Department's competition schedule.

For these reasons, the Secretary proposes to waive the requirements in 34 CFR 75.250, which prohibit project periods exceeding five years, as well as the requirements in 34 CFR 75.261(a) and (c)(2), which allow the extension of a project period only if the extension does not involve the obligation of additional Federal funds. The waiver would allow the Department to issue FY 2015 continuation awards of $100,000 to each of the nine centers in the FY 2010 cohort.

Any activities carried out during the year of this continuation award would have to be consistent with, or a logical extension of, the scope, goals, and objectives of the grantee's application as approved in the FY 2010 CPRC competition.

If the proposed waiver and extension of the project period are announced in a final notice in the Federal Register, the requirements applicable to continuation awards for this competition set forth in the 2010 NIA and the requirements in 34 CFR 75.253 would apply to any continuation awards sought by the current CPRC grantees. We will base our decisions regarding continuation awards on the program narratives, budgets, budget narratives, and program performance reports submitted by the current grantees, and the requirements in 34 CFR 75.253.

Regulatory Flexibility Act Certification

The Department certifies that the proposed waiver and extension of the project period would not have a significant economic impact on a substantial number of small entities. The only entities that would be affected by the proposed waiver and extension of the project period are the current grantees receiving Federal funds and any other potential applicants.

The Secretary certifies that the proposed waiver and extension would not have a significant economic impact on these entities because the extension of an existing project period imposes minimal compliance costs, and the activities required to support the additional year of funding would not impose additional regulatory burdens or require unnecessary Federal supervision.

Paperwork Reduction Act of 1995

This notice of proposed waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 3, 2015.
Sue Swenson,
Acting Assistant Secretary for Special Education and Rehabilitative Services.

[FR Doc. 2015-05280 Filed 3-6-15; 8:45 am]

BILLING CODE 4000-01-P